DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the name of one person that has been placed on OFAC's Specially Designated Nationals and Blocked Persons List based on OFAC's determination that one or more applicable legal criteria were satisfied. All property and interests in property subject to U.S. jurisdiction of this person is blocked, and U.S. persons are generally prohibited from engaging in transactions with him.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On July 16, 2019, OFAC determined that the property and interests in property subject to U.S. jurisdiction of the following person are blocked under the relevant sanctions authority listed below.

Individual

1. MOUSSA, Bah Ag (a.k.a. DIARRA, Bamoussa; a.k.a. DIARRA, Rabia; a.k.a. MOUSSA, Ba Ag), Kidal, Mali; Nara, Mali; DOB 01 Jan 1958; alt. DOB 31 Dec 1952; alt. DOB 28 Oct 1956; alt. DOB 1958; nationality Mali; Gender Male (individual) [SDGT].

Designated pursuant to section 1(c) of Executive Order 13224 of September 23, 2001, “Blocking Property and Prohibiting Transactions With Persons Who Commit, Threaten to Commit, or Support Terrorism” (E.O. 13224) for acting for or on behalf of JAM'AT NUSRAT AL-ISLAM WAL-MUSLIMIN, an entity whose property and interests in property are blocked pursuant to E.O. 13224.

Also designated pursuant to section 1(c) of E.O. 13224 for acting for or on behalf of IYAD AG GHALI, a person whose property and interests in property are blocked pursuant to E.O. 13224.

Dated: July 16, 2019.
Andrea Gacki,
Director, Office of Foreign Assets Control.

[FR Doc. 2019-15471 Filed 7-19-19; 8:45 am]

BILLING CODE 4810-AL-P